DEPARTMENT OF AGRICULTURE

Forest Service

Notice of Proposed New Fee Site

AGENCY: Forest Service, Agriculture (USDA).

ACTION: Notice of proposed new fee site.

SUMMARY: The Caribou-Targhee National Forest will be implementing a new $95 per night, expanded amenity recreation fee for Jensen Cabin. The Federal Recreation Lands Enhancement Act directed the Secretary of Agriculture to publish a six-month advance notice in the Federal Register whenever new recreation fee areas are established. An analysis of the nearby private rental cabins with similar amenities shows that the proposed fees are reasonable and typical of similar sites in the area.

DATES: The new fee will be implemented no earlier than six months following the publication of this notice.

ADDRESSES: Caribou-Targhee National Forest, 1405 Hollipark Drive, Idaho Falls, Idaho 83401.

FOR FURTHER INFORMATION CONTACT: Kaye Orme, Recreation Fee Coordinator, 208-557-5790 or kaye.orme@usda.gov.

SUPPLEMENTARY INFORMATION: This fee proposal was vetted through the U.S. Forest Service public involvement process which included announcement of the proposal in local and regional media outlets, on the Forest internet and social media sites, and briefing of federal and local elected officials. The results of these efforts were presented to the local Resource Advisory Committee (RAC) for evaluation and recommendation to implement the new recreation fee.

Reasonable fees, paid by users of this cabin, will help ensure that the Forest can continue maintaining and improving recreation sites like this for future generations. A market analysis of surrounding recreation sites with similar amenities indicates that the fees are comparable and reasonable.

People wanting to reserve these cabins would need to do so through Recreation.gov, at www.recreation.gov or by calling 1-877-444-6777 when it becomes available.

Authority: Title VII, Pub. L. 108-447.

Dated: August 17, 2021.
Tina Johna Terrell,
Associate Deputy Chief, National Forest System.

[FR Doc. 2021-17984 Filed 8-20-21; 8:45 am]

BILLING CODE 3411-15-P